DEPARTMENT OF HEALTH AND HUMAN SERVICES

Centers for Disease Control and Prevention

Board of Scientific Counselors, Deputy Director for Infectious Diseases (BSC, DDID)

AGENCY: Centers for Disease Control and Prevention (CDC), Department of Health and Human Services (HHS).

ACTION: Notice of meeting.

SUMMARY: In accordance with the Federal Advisory Committee Act, the Centers for Disease Control and Prevention (CDC) announces the following meeting for the Board of Scientific Counselors, Deputy Director for Infectious Diseases (BSC, DDID). This virtual meeting is open to the public via Zoom, limited only by the number of web conference lines available (500 lines). Pre-registration is required by accessing the link below in the addresses section.

DATES: The meeting will be held on December 7, 2022, from 9:00 a.m. to 5:15 p.m., EST, and December 8, 2022, from 8:30 a.m. to 1:00 p.m., EST.

ADDRESSES: Zoom virtual meeting. Pre-registration is required by accessing the link at https://cdc.zoomgov.com/webinar/register/WN_PbAc34lET9uD2RN8lopzig. Instructions to access the meeting will be provided following registration.

FOR FURTHER INFORMATION CONTACT: Laura Hughes-Baker, Ph.D., Designated Federal Officer, CDC, 1600 Clifton Road NE, Mailstop H24-12, Atlanta, Georgia 30329-4027; Telephone: (404) 639-1402; Email: LHughesBaker@cdc.gov.

SUPPLEMENTARY INFORMATION:

Purpose: The BSC, DDID provides advice and guidance to the Secretary, Department of Health and Human Services; the Director, CDC; the CDC Deputy Director for Infectious Diseases; and the Directors of the National Center for Emerging and Zoonotic Infectious Diseases, the National Center for HIV, Viral Hepatitis, STD, and TB Prevention, and the National Center for Immunization and Respiratory Diseases, CDC, concerning strategies, goals, and priorities for the programs and research within the national centers and monitors the overall strategic direction and focus of DDID and the national centers.

Matters to be Considered: The agenda will include updates and discussions on recent outbreaks and affected populations, as well as brief reports from two of the Board's workgroups: the Food Safety Modernization Act Surveillance Working Group and the Acute Flaccid Myelitis Task Force. Agenda items are subject to change as priorities dictate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-25276 Filed 11-18-22; 8:45 am]

BILLING CODE 4163-18-P